ENVIRONMENTAL PROTECTION AGENCY

[ER-FRL-6666-6]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in Federal Register dated April 1, 2005 (70 FR 16815).

Draft EISs

EIS No. 20050229, ERP No. D-AFS-L65487-0R, Blue Mountain Land Exchange—Oregon Project, Proposed Exchange of Federal and Non-Federal Lands, Malheur, Umatilla, and Wallowa-Whitman National Forests, Baker, Grant, Morrow, Umatilla, Union and Wallowa Counties, OR.

Summary: EPA expressed environmental concerns about impacts to water quality and forest habitat as well as on the loss of dedicated old growth and net loss of Late and Old Structure habitat. EPA supports the identified prioritization of road restoration efforts proposed for acquired lands, but is concerned about uncertain funding to implement restoration efforts.

Rating EC2.

Final EISs

EIS No. 20050267, ERP No. F-NRC-G09804-NM, National Enrichment Facility (NEF), Construction, Operation, and Decommission of a Gas Centrifuge Uranium Enrichment Facility, License Application, NUREG-1790, near Eunice, Lea County, NM.

Summary: No formal comment letter was to the preparing agency.

EIS No. 20050275, ERP No. F-FHW-F40389-WI, WI-26 State Trunk Highway (STH) Improvements, Janesville at IH-90 to STH-60-East north of Watertown Road, Funding, (Project ID 1390-04-00), Rock, Jefferson, and Dodge Counties, WI

Summary: Many of EPA's earlier objections to the project have been satisfactory addressed; however, EPA continues to have concerns about the proposed project because of the need for additional refinement on compensatory mitigation for wetlands impacts.

EIS No. 20050279, ERP No. F-NPS-E65070-AL, Selma to Montgomery National Historic Trail Comprehensive Management Plan, Implementation, Dallas, Lowndes, and Montgomery Counties, AL.

Summary: EPA has no objections to the preferred alternative.

EIS No. 20050302, ERP No. FC-IBW-K24017-00, South Bay International Wastewater Treatment Plan (SBIWTP), To Address Treatment Alternatives from Tijuana, Mexico that cross into United States/Mexico Border in San Diego County, CA.

Summary: No formal comment letter was sent to the preparing agency.

Dated: August 16, 2005.
Robert W. Hargrove,
Director, NEPA Compliance Division, Office of Federal Activities.

[FR Doc. 05-16474 Filed 8-18-05; 8:45 am]

BILLING CODE 6560-50-P